DEPARTMENT OF DEFENSE

GENERAL SERVICES ADMINISTRATION

NATIONAL AERONAUTICS AND SPACE ADMINISTRATION

48 CFR Parts 2, 4, 12, 14, 15, 16, 19, 27, 30, 31, 32, 42, 44, 49, and 52

[FAR Case 2005-036; Docket 2007-001, Sequence 7]

RIN 9000-AK74

Federal Acquisition Regulation; FAR Case 2005-036, Definition of Cost or Pricing Data

AGENCIES: Department of Defense (DoD), General Services Administration (GSA), and National Aeronautics and Space Administration (NASA).

ACTION: Notice of public meeting; extension of comment period.

SUMMARY: The Civilian Agency Acquisition Council and the Defense Acquisition Regulations Council (Councils) are cosponsoring a public meeting to discuss the proposed Federal Acquisition Regulation (FAR) rule 2005-036 on cost or pricing data. The rule would revise the definition of “cost or pricing data”; change the term “information other than cost or pricing data” to “data other than certified cost or pricing data”; add a definition of “certified cost or pricing data” to make the terms and definitions consistent with 10 U.S.C. 2306(a) and 41 U.S.C. 254(b) and more understandable to the general reader; change terminology throughout the FAR; and clarify the need to obtain data other than certified cost or pricing data when there is no other means to determine fair and reasonable pricing during price analysis.

The proposed rule was published in the Federal Register at 72 FR 20092 on April 23, 2007. The Councils are now seeking additional views before finalizing the proposed rule.

A public meeting will be held on November 15, 2007, from 9:00 a.m. to 1:00 p.m. EST, in the General Services Administration Building Auditorium, 1800 F Street, NW, Washington, DC, 20405. Interested parties may register electronically at: http://www.corpcomm-inc.com/dpap/dars/far_case_2005-036_meeting_registration.php. Attendees are encouraged but not required to register for the public meeting, to ensure adequate room accommodations.

DATES: The comment period has been extended. Interested parties should submit written comments to the FAR Secretariat on or before November 22, 2007, to be considered in the formulation of the final rule. Please do not resubmit comments already made. If you wish your views at the public meeting to be considered as a public comment you must submit a public comment. Copies of the public comments already submitted are available at http://www.regulations.gov.

ADDRESSES: Submit comments identified by FAR Case 2005-036 by any of the following methods:

Federal eRulemaking Portal: http://www.regulations.gov.

• To search for any document, first select under “Step 1,” “Documents with an Open Comment Period” and select under “Optional Step 2,” “Federal Acquisition Regulation” as the agency of choice. Under “Optional Step 3,” select “Proposed Rules”. Under “Optional Step 4,” from the drop down list, select “Document Title” and type the FAR case number “2005-036”. Click the “Submit” button. Please include your name and company name (if any) inside the document.

You may also search for any document by clicking on the “Search for Documents” tab at the top of the screen. Select from the agency field “Federal Acquisition Regulation”, and type “2005-036” in the “Document Title” field. Select the “Submit” button.

• Fax: 202-501-4067.

• Mail: General Services Administration, Regulatory Secretariat (VIR), 1800 F Street, NW, Room 4035, ATTN: Laurieann Duarte, Washington, DC 20405.

Instructions: Please submit comments only and cite FAR case 2005-036 in all correspondence related to this case. All comments received will be posted without change to http://www.regulations.gov, including any personal and/or business confidential information provided.

FOR FURTHER INFORMATION CONTACT Edward N. Chambers, Deputy Chair, FAR Finance Team, by telephone at (202) 501-3221, or by e-mail at edward.chambers@gsa.gov, for clarification of content. Please cite FAR Case 2005-036. For information pertaining to status or publication schedules, contact the FAR Secretariat, Room 4035, GS Building, Washington, DC, 20405, at (202) 501-4755.

Dated: October 24, 2007.
Al Matera,
Director, Office of Acquisition Policy.

[FR Doc. 07-5404 Filed 10-31-07; 8:45 am]

BILLING CODE 6820-EP-S